DEPARTMENT OF HOMELAND SECURITY

Coast Guard

33 CFR Parts 1, 2, 64, 100, 109, 110, 117, 147, 150, 151, and 161

[USCG-2007-27887]

RIN 1625-ZA13

Navigation and Navigable Waters; Technical, Organizational, and Conforming Amendments

AGENCY: Coast Guard, DHS.

ACTION: Final rule.

SUMMARY: This rule makes non-substantive changes throughout Title 33 of the Code of Federal Regulations. The purpose of this rule is to make conforming amendments and technical corrections to Coast Guard navigation and navigable water regulations. This rule will have no substantive effect on the regulated public.

DATES: This final rule is effective August 16, 2007.

ADDRESSES: Comments and material received from the public, as well as documents mentioned in this preamble as being available in the docket, are part of docket USCG-2007-27887 and are available for inspection or copying at the Docket Management Facility, U.S. Department of Transportation, room PL-401, 400 Seventh Street, SW., Washington, DC, between 9 a.m. and 5 p.m., Monday through Friday, except Federal holidays. You may also find this docket on the Internet at http://dms.dot.gov.

FOR FURTHER INFORMATION CONTACT: If you have questions on this rule, call Mr. Ray Davis, Coast Guard, telephone 202-372-1461. If you have questions on viewing the docket, call Ms. Renee V. Wright, Program Manager, Docket Operations, telephone 202-493-0402.

SUPPLEMENTARY INFORMATION:

Regulatory History

We did not publish a notice of proposed rulemaking (NPRM) for this regulation. Under both 5 U.S.C. 553(b)(A) and (b)(B), the Coast Guard finds this rule is exempt from notice and comment rulemaking requirements because these changes involve agency organization and practices, and good cause exists for not publishing an NPRM for all revisions in the rule because they are all non-substantive changes. This rule consists only of corrections and editorial, organizational, and conforming amendments. These changes will have no substantive effect on the public; therefore, it is unnecessary to publish an NPRM. Under 5 U.S.C. 553(d)(3), the Coast Guard finds that, for the same reasons, good cause exists for making this rule effective less than 30 days after publication in the Federal Register.

Background and Purpose

Each year Title 33 of the Code of Federal Regulations is updated on July 1. This rule, which becomes effective August 16, 2007, makes technical and editorial corrections throughout Title 33. This rule does not create any substantive requirements.

Discussion of Rule

This rule corrects the authority citations in parts 1, 64, 109, 117, 147, and 151. The explanations in §§ 109.05(a) and 109.10 concerning the authority to regulate anchorage grounds and special anchorage areas are also updated.

Five sections in part 100 pertaining to regattas and other marine events, and one paragraph, a table, and a figure in part 110 pertaining to the placement of mooring buoys are removed because they are obsolete or redundant. A note in part 151 that references a definition has been updated.

Additional amendments to parts 2, 64, 150, and 161 are:

33 CFR 2.32(c). The Coast Guard previously revised definitions of jurisdictional terms in part 2, conforming them to statutory changes and Presidential proclamations affecting Coast Guard jurisdiction (68 FR 42595, July 18, 2003). Those amendments inadvertently omitted wreck and structure marking authority but were intended to incorporate the traditional interpretation of “high seas” that existed before the advent of the concept of an exclusive economic zone (EEZ). Prior to those amendments, the meaning of “high seas” within the context of Coast Guard wreck and structure marking authority, as applied to persons subject to U.S. jurisdiction, was intended to be similar to how the term “high seas” was understood in traditional maritime law enforcement authority, 14 U.S.C. 89(a), and as defined by Congress in the Intervention on the High Seas Act, 33 U.S.C. 1471, et seq. It was not our intent, in promulgating the 2003 updates to jurisdictional regulations, to change that application. Rather, our intent was to maintain, insofar as possible, the existing jurisdictional authorities of the Coast Guard to execute its missions, particularly with respect to the definition of “high seas” (see 68 FR 42595-6).

33 CFR 64.06. A definition of “high seas” is added to the section's list of definitions to make clear that the application of this part remains unchanged by our amendments to 33 CFR Part 2 in 2003 (68 FR 42595, July 18, 2003).

33 CFR Part 150. The geographic coordinates in § 150.940 have been revised to enable plotting using the North American Datum of 1983, and the description of the datum in § 150.930 has been amended accordingly.

33 CFR 161.35. The names, numbers, and locations of certain navigation aids in the Houston/Galveston Vessel Traffic Service Area have been updated in Tables 161.35(B) and (C).

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security. We expect the economic impact of this rule to be so minimal that a full Regulatory Evaluation is unnecessary. As this rule involves internal agency practices and procedures and non-substantive changes, it will not impose any costs on the public.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This rule does not require a general NPRM and, therefore, is exempt from the requirements of the Regulatory Flexibility Act. Although this rule is exempt, we have reviewed it for potential economic impact on small entities.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraphs (34)(a) and (b), of the Instruction from further environmental documentation because this rule involves editorial, procedural, and internal agency functions. A final “Environmental Analysis Check List” and a final “Categorical Exclusion Determination” are available in the docket where indicated under ADDRESSES.

List of Subjects

33 CFR Part 1

Administrative practice and procedure, Authority delegations (Government agencies), Freedom of information, Penalties.

33 CFR Part 2

Administrative practice and procedure, Law enforcement.

33 CFR Part 64

Navigation (water), Reporting and recordkeeping requirements.

33 CFR Part 100

Marine safety, Navigation (water), Reporting and recordkeeping requirements, Waterways.

33 CFR Part 109

Anchorage grounds.

33 CFR Part 110

Anchorage grounds.

33 CFR Part 117

Bridges, Reporting and recordkeeping requirements.

33 CFR Part 147

Continental shelf, Marine safety, Navigation (water).

33 CFR Part 150

Harbors, Marine safety, Navigation (water), Occupational safety and health, Oil pollution, Reporting and recordkeeping requirements.

33 CFR Part 151

Administrative practice and procedure, Oil pollution, Penalties. Reporting and recordkeeping requirements, Water pollution control.

33 CFR Part 161

Harbors, Navigation (water), Reporting and recordkeeping requirements, Vessels, Waterways.

For the reasons discussed in the preamble, the Coast Guard amends 33 CFR parts 1, 2, 64, 100, 109, 110, 117, 147, 150, 151, and 161.

Title 33—Navigation and Navigable Waters

PART 1—GENERAL PROVISIONS

1. In subpart 1.05, revise the authority citation to read as follows:

Authority: 5 U.S.C. 552, 553, App. 2; 14 U.S.C. 2, 631, 632, and 633; 33 U.S.C. 471, 499; 49 U.S.C. 101, 322; Department of Homeland Security Delegation No. 0170.1.

PART 2—JURISDICTION

2. The authority citation for part 2 continues to read as follows:

Authority: 14 U.S.C. 633; 33 U.S.C. 1222; Pub. L.89-670, 80 Stat. 931, 49 U.S.C. 108; Pub. L. 107-296, 116 Stat. 2135, 2249, 6 U.S.C. 101 not and 468; Department of homeland Security Delegation No. 0170.1.

3. In § 2.32, revise paragraph (c) to read as follows:

§ 2.32 High seas.

* * * * *

(c) For the purposes of 14 U.S.C. 89(a), 14 U.S.C. 86, 33 U.S.C. 409, and 33 U.S.C. 1471 et seq., high seas includes the exclusive economic zones of the United States and other nations, as well as those waters that are seaward of territorial seas of the United States and other nations.

* * * * *

PART 64—MARKING OF STRUCTURES, SUNKEN VESSELS AND OTHER OBSTRUCTIONS

4. Revise the authority citation for part 64 to read as follows:

Authority: 14 U.S.C. 633; 33 U.S.C. 409, 1231; 42 U.S.C. 9118; 43 U.S.C. 1333; Department of Homeland Security Delegation No. 0170.1.

5. In § 64.06, add a new definition for “high seas” between “Hazard to navigation” and “Markings” to read as follows:

§ 64.06 Definition of terms.

* * * * *

High seas means those waters described in § 2.32(c) of this chapter.

* * * * *

PART 100—SAFETY OF LIFE ON NAVIGABLE WATERS

6. The authority citation for part 100 continues to read as follows:

Authority: 33 U.S.C. 1233.

§ 100.103 [Removed]

7. Remove § 100.103.

§ 100.104 [Removed]

8. Remove § 100.104.

§ 100.120 [Removed]

9. Remove § 100.120.

§ 100.121 [Removed]

10. Remove § 100.121.

§ 100.122 [Removed]

11. Remove § 100.122.

PART 109—GENERAL

12. Revise the authority citation for part 109 to read as follows:

Authority: R.S. 4233, as amended, 28 Stat. 647 as amended, 30 Stat. 98, as amended, sec. 7, 38 Stat. 1053, as amended, sec. 6(g)(1), 80 Stat. 940; 33 U.S.C. 180, 258, 322, 471; 49 U.S.C. 1655(g)(1); Pub. L. 107-296, 116 Stat. 2135; Department of Homeland Security Delegation No. 0170.1.

§ 109.01 [Amended]

13. Remove the parenthetical at the end of § 109.01.

14. In § 109.05—

a. Revise paragraph (a) to read as set out below; and,

b. Remove the parenthetical at the end of the section.

§ 109.05 Anchorage grounds.

(a) Section 7 of the Rivers and Harbors Act of March 4, 1915 (33 U.S.C. 471), authorizes the establishment of anchorage grounds for vessels in navigable waters of the United States whenever it is apparent that these are required by the maritime or commercial interests of the United States for safe navigation. The statute also authorizes the adoption of suitable rules and regulations regarding the establishment of anchorage grounds, which are enforced by the Coast Guard. The authority conferred by this statute was transferred to and vested in the Secretary of Homeland Security by section 902(j) of the Coast Guard and Maritime Transportation Act of 2006 (Pub. L. 109-241, 120 Stat. 516), and delegated to the Commandant of the U.S. Coast Guard in Department of Homeland Security Delegation No. 0170.1. The Commandant redelegated the authority to establish anchorage grounds to each Coast Guard District Commander as provided in 33 CFR 1.05-1(e)(1)(i).

* * * * *

§ 109.07 [Amended]

15. Remove the parenthetical at the end of § 109.07.

16. Revise § 109.10 to read as follows:

§ 109.10 Special anchorage areas.

An Act of Congress of April 22, 1940, provides for the designation of special anchorage areas wherein vessels not more than sixty-five feet in length, when at anchor, will not be required to carry or exhibit anchorage lights. Such designation is to be made after investigation, by rule, regulation, or order, the procedure for which will be similar to that followed for anchorage grounds under section 7 of the Rivers and Harbors Act of March 4, 1915, as referred to in § 109.05. The areas so designated should be well removed from the fairways and located where general navigation will not endanger or be endangered by unlighted vessels. The authority to designate special anchorage areas was transferred to and vested in the Secretary of Homeland Security by section 902(j) of the Coast Guard and Maritime Transportation Act of 2006 (Pub. L. 109-241, 120 Stat 516), and delegated to the Commandant of the U.S. Coast Guard in Department of Homeland Security Delegation No. 0170.1. The Commandant redelegated the authority to establish anchorage grounds to each Coast Guard District Commander as provided in 33 CFR 1.05-1(e)(1)(i).

§ 109.15 [Amended]

17. In § 109.15, remove “guard”, and add, in its place, “Guard”.

PART 110—ANCHORAGE REGULATIONS

18. The authority citation for part 110 continues to read as follows:

Authority: 33 U.S.C. 471, 1221 through 1236, 2030, 2035, 2071; 33 CFR 1.05-1; Department of Homeland Security Delegation No. 0170.1.

§ 110.60 [Amended]

19. In § 110.60, remove paragraph(x)(4), Table 110.60(x)(4), and Figure 110.60(x)(4).

§ 110.155 [Amended]

20. In § 110.155(l)(8), remove “Coast Guard Activities New York, Waterways Oversight Branch”, and add, in its place, “Coast Guard Sector New York, Waterways Management Division”.

PART 117—DRAWBRIDGE OPERATION REGULATIONS

21. Revise the authority citation for part 117 to read as follows:

Authority: 33 U.S.C. 499; 33 CFR 1.05-1; and Department of Homeland Security Delegation No. 0170.1.

PART 147—SAFETY ZONES

22. Revise the authority citation for part 147 to read as follows:

Authority: 14 U.S.C. 85; 43 U.S.C. 1333; Department of Homeland Security Delegation No. 0170.1.

PART 150—-DEEPWATER PORTS: OPERATION

23. The authority citation for part 150 continues to read as follows:

Authority: 33 U.S.C. 1231, 1321(j)(1)(C), (j)(5), (j)(6), (m)(2); 33 U.S.C. 1509(a); E.O. 12777, sec. 2; E.O. 13286, sec. 34, 68 FR 10619; Department of Homeland Security Delegation No. 0170.1 (70), (73), (75), (80).

24. Revise § 150.930 to read as follows:

§ 150.930 What datum is used for the geographic coordinates in this subpart?

The geographic coordinates used in this subpart have been revised to enable plotting using the North American Datum of 1983 (NAD 83) and no longer require the use of any further conversion factors for correction.

25. Revise § 150.940 to read as follows:

§ 150.940 Safety zones for specific deepwater ports.

(a) Louisiana Offshore Oil Port (LOOP). (1) The location of the safety zone for LOOP is as described in Table 150.940(A):

Table 150.940(A).—Safety Zone for LOOP, Gulf of Mexico
Plotting guidance | Latitude N | Longitude W
(i) Starting at | 28°55′24″ | 90°00′37″
(ii) A rhumb line to: | 28°53′51″ | 90°04′07″
(iii) Then an arc with a 4,465 meter (4,883 yard) radius centered at the port's pumping platform complex | 28°53′07″ | 90°01′30″
(iv) To a point | 28°51′08″ | 90°03′06″
(v) Then a rhumb line to | 28°50′10″ | 90°02′24″
(vi) Then a rhumb line to | 28°49′06″ | 89°55′54″
(vii) Then a rhumb line to | 28°48′37″ | 89°55′00″
(viii) Then a rhumb line to | 28°52′05″ | 89°52′42″
(ix) Then a rhumb line to | 28°53′11″ | 89°53′42″
(x) Then a rhumb line to | 28°54′53″ | 89°57′00″
(xi) Then a rhumb line to | 28°54′53″ | 89°59′36″
(xii) Then an arc with a 4,465 meter (4,883 yard) radius centered again at the port's pumping platform complex |  |
(xiii) To the point of starting | 28°55′24″ | 90°00′37″

(2) The areas to be avoided within the safety zone are:

(i) The area encompassed within a circle having a 600 meter radius around the port's pumping platform complex and centered at 28°53′07″ N, 90°01′30″ W.

(ii) The six areas encompassed within a circle having a 500 meter radius around each single point mooring (SPM) at the port and centered at:

Latitude N | Longitude W
28°54′13″ | 90°00′37″
28°53′17″ | 89°59′59″
28°52′16″ | 90°00′19″
28°51′46″ | 90°01′25″
28°52′09″ | 90°02′33″
28°53′08″ | 90°03′02″

(3) The anchorage area within the safety zone is an area enclosed by the rhumb lines joining points at:

Latitude N | Longitude W
28°52′22″ | 89°57′47″
28°54′06″ | 89°56′38″
28°52′05″ | 89°52′42″
28°50′21″ | 89°53′51″
28°52′22″ | 89°57′47″

(b) The Gulf Gateway Deepwater Port (GGDWP)—(1) Description. The GGDWP safety zone is centered at the following coordinates: 28°05′17″ N, 93°03′07″ W. This safety zone, encompassed within a circle having a 500 meter radius around the primary component of the Gulf Gateway Deepwater Port, the submerged loading turret (buoy) and the pipeline end manifold (STL/PLEM), is located approximately 116 miles off the Louisiana coast at West Cameron Area, South Addition Block 603 “A”.

(i) A mandatory no anchoring area contained within a circle of radius 1,500 meters centered on the following geographical position is designated as a mandatory no anchoring area: 28°05′17″ N, 93°03′07″ W.

(ii) An area to be avoided within a circle of radius 2,000 meters centered on the following geographical position is designated as an area to be avoided: 28°05′17″ N, 93°03′07″ W.

(2) Regulations. Deepwater port support vessels desiring to enter the safety zone must contact and obtain permission from the LNG Regasification Vessel (LNGRV) stationed at the deepwater port. The LNGRV can be contacted on VHF-FM Channel 13.

PART 151—VESSELS CARRYING OIL, NOXIOUS LIQUID SUBSTANCES, GARBAGE, MUNICIPAL OR COMMERCIAL WASTE, AND BALLAST WATER

26. Revise the authority citation for part 151 to read as follows:

Authority: 33 U.S.C. 1321, 1903, 1908; 46 U.S.C. 6101; Pub. L. 104-227 (110 Stat. 3034); E.O. 12,777, 3 CFR, 1991 Comp. p. 351; Department of Homeland Security Delegation No. 0170.1.

§ 151.09 [Amended]

27. In § 151.09—

A. Remove the note following paragraph (d); and

B. Add a note between paragraphs (b)(3) and (b)(4) to read “Note to § 151.09(b)(3): The term internal waters is defined in § 2.24 of this chapter.”

PART 161—VESSEL TRAFFIC MANAGEMENT

28. The authority citation for part 161 continues to read as follows:

Authority: 33 U.S.C. 1223, 1231; 46 U.S.C. 70114, 70117; Pub. L. 107-295, 116 Stat. 2064; Department of Homeland Security Delegation No. 0170.1.

29. Amend § 161.35 by revising the entry for Sims Bayou in Table 161.35(B) and revising Table 161.35(C) to read as follows:

§ 161.35 Vessel Traffic Service Houston/Galveston.

* * * * *

(b) Precautionary Areas.

Table 161.35(B).—VTS Houston/Galveston Precautionary Areas
Precautionary area name | Radius (yds.) | Center point: Latitude | Center point: Longitude
* * * * * * *
Sims Bayou | 1000 | 29° 43.2′ N | 95° 14.4′ W
* * * * * * *

(c) Reporting Points.

Table 161.35(C).—VTS Houston/Galveston Reporting Points
Designator | Geographic name | Geographic description | Latitude/ longitude | Notes
1 | Galveston Bay Entrance Channel | Galveston Bay Entrance CH Lighted Buoy (LB) “1C” | 29° 18.2′ N; 94° 37.6′ W
2 | Galveston Bay Entrance Channel | Galveston Bay Entrance Channel LB 11 and 12 | 29° 20.6′ N; 94° 44.6′ W
E | Bolivar Land Cut | Mile 349 Intracoastal Waterway (ICW) | 29° 22.5′ N; 94° 46.9′ W | Tows entering HSC also report at HSC LB 25 & 26.
W | Pelican Cut | Mile 351 ICW | 29° 21.4′ N; 94° 48.5′ W | Tows entering HSC also report at HSC LB 25 & 26.
G | Galveston Harbor | Galveston Channel Lt. 2 | 29° 20.2′ N; 94° 46.6′ W | Coast Guard Base.
T | Texas City Channel | Texas City Channel Lt. 12 | 29° 22.4′ N; 94° 50.9′ W
X | Houston Ship Channel ICW Intersection | Houston Ship Channel (HSC) LB 25 and 26 | 29° 22.2′ N; 94° 48.1′ W | Tow entering HSC from ICW or Texas Cut Only.
3 | Lower Galveston Bay | HSC Lt. 31 and LB 32 | 29° 23.8′ N; 94° 48.9′ W
4 | Red Fish Bar | HSC Lt. 53 & 54 | 29° 30.3′ N; 94° 52.4′ W
P | Bayport Ship Channel | Bayport Ship Channel Lt. 8 and 9 | 29° 36.8′ N; 94° 59.5′ W | Bayport Land Cut.
4A | Upper Galveston Bay | HSC Lt. 69 and 70 | 29° 34.7′ N; 94° 55.8′ W | Tows only.
5 | Morgan's Point | HSC Lt. 91 | 29° 41.0′ N; 94° 59.0′ W
6 | Exxon | HSC Lt. 109A | 29° 43.5′ N; 95° 01.4′ W
7 | Lynchburg | Ferry crossing | 29° 45.8′ N; 95° 04.8′ W
8 | Shell Oil | Boggy Bayou | 29° 44.1′ N; 95° 08.0′ W
9 | Greens Bayou | HSC Lt. 152 | 29° 44.8′ N; 95° 10.1′ W
10 | Hunting Bayou | Hunting Bayou Turning Basin. | 29° 44.4′ N; 95° 12.1′ W
11 | Lyondell | Sims Bayou Turning Basin. | 29° 43.2′ N; 95° 14.4′ W
12 | I-610 Bridge | I-610 Bridge | 29° 43.5′ N; 95° 16.0′ W
13 | Buffalo Bayou | Houston Turning Basin | 29° 45.0′ N; 95° 17.4′ W

Dated: August 9, 2007.
Stefan G. Venckus,
Chief, Office of Regulations and Administrative Law, United States Coast Guard.

[FR Doc. E7-15957 Filed 8-15-07; 8:45 am]

BILLING CODE 4910-15-P